DEPARTMENT OF THE INTERIOR

Geological Survey

[USGS-GX16WC00COM0001]

Agency Information Collection Activities: Request for Comments

AGENCY: U.S. Geological Survey (USGS), Interior.

ACTION: Notice of revision of a currently approved information collection, (1028-0106).

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR. This collection is scheduled to expire on May 31, 2016.

DATES: To ensure that your comments on this ICR are considered, OMB must receive them on or before June 27, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0106 USGS Ash Fall Report'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0106: USGS Ash Fall Report' in all correspondence.

FOR FURTHER INFORMATION CONTACT: Kristi Wallace, U.S. Geological Survey, Alaska Volcano Observatory, 4210 University Drive, Anchorage, Alaska 99508, office phone: 907-786-7109, email: kwallace@usgs. You may also find information about this ICR at www.reginfo.gov.

SUPPLEMENTARY INFORMATION:

I. Abstract

The USGS provides notifications and warnings to the public of volcanic activity in the U.S. in order to reduce the loss of life, property, and economic and societal impacts. Ash fallout to the ground can pose significant disruption and damage to buildings, transportation, water and wastewater, power supply, communications equipment, agriculture, and primary production leading to potentially substantial societal impacts and costs, even at thicknesses of only a few millimeters or inches. Additionally, fine grained ash, when ingested can cause health impacts to humans and animals. USGS will use reports entered in real time by respondents of ash fall in their local area to correct or refine ash fall forecasts as the ash cloud moves downwind. Retrospectively these reports will enable USGS to improve their ash fall models and further research into eruptive processes.

This project is a database module and web interface allowing the public and Alaska Volcano Observatory (AVO) staff to enter reports of ash fall in their local area in real time and retrospectively following an eruptive event. Users browsing the AVO Web site during eruptions will be directed towards a web form allowing them to fill in ash fall information and submit the information to AVO.

Compiled ashfall reports are available in real-time to AVO staff through the AVO internal Web site. A pre-formatted summary report or table that distills information received online will show ash fall reports in chronological order with key fields including (1) date and time of ash fall, (2) location, (3) positive or negative ash fall (4) name of observer, and (5) contact information is easily viewable internally on the report so that calls for clarification can be made by AVO staff quickly and Operations room staff can visualize ashfall information quickly.

Ash fall report data will also be displayed on a dynamic map interface and show positive (yes ash) and negative (no ash) ash fall reports by location. Ash fall reports (icons) will be publically displayed for a period of 24 hours and shaded differently as they age so that the age of reports is obvious.

The ash fall report database will help AVO track eruption clouds and associated fallout downwind. These reports from the public will also give scientists a more complete record of the amount and duration and other conditions of ash fall. Getting first-hand accounts of ash fall will support model ash fall development and interpretation of satellite imagery. AVO scientists will—as time allows—be able to contact the individuals using their entered contact information for clarification and details. Knowing the locations from which ash-fall reports have been filed will improve ash fall warning messages, AVO Volcanic Activity Notifications, and make fieldwork more efficient. AVO staff will be able to condense and summarize the various ash fall reports and forward that information on to emergency management agencies and the wider public. The online form will also free up resources during exceedingly busy times during an eruption, as most individuals currently phone AVO with their reports.

Observers may also collect and submit a physical ashfall sample using mail services. The area over which ash can fall is large. Timely access is often difficult for USGS employees and local individuals are ideally positioned to collect quality samples.

II. Data

OMB Control Number: 1028-0106.

Form Number: NA.

Title: USGS Ash Fall Report.

Type of Request: Revision of a currently approved information collection.

Respondent Obligation: Participation is voluntary.

Frequency of Collection: On occasion, after each ashfall event.

Description of Respondents: Individuals and households.

Estimated Total Number of Annual Responses: Approximately 200 individuals will respond with an observation event each year.

Estimated Time per Response: We estimate the public reporting burden will average 3.5 minutes per response. This includes the time for reviewing instructions, and answering a web-based questionnaire.

Estimated Annual Burden Hours: 33 hours.

Estimated Reporting and Recordkeeping “Non-Hour Cost” Burden: There are a few optional “non-hour cost” burdens associated with this collection of information, such as clipboards, plastic bags, and preparing ash collection tools. We estimate the maximum for all respondents is $711.

Public Disclosure Statement: The PRA (44 U.S.C. 3501, et seq.) provides that an agency may not conduct or sponsor and you are not required to respond to a collection of information unless it displays a currently valid OMB control number. Until the OMB approves a collection of information, you are not obliged to respond.

Comments: On February 12, 2016, we published a Federal Register notice (81 FR 7582) announcing that we would submit this ICR to OMB for approval and soliciting comments. The comment period closed on April 12, 2016. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Thomas L. Murry,
Director, Volcano Science Center.

[FR Doc. 2016-12569 Filed 5-26-16; 8:45 am]

BILLING CODE 4338-11-P